DEPARTMENT OF HOMELAND SECURITY

[Docket No. DHS-2010-0026]

Science and Technology Directorate; Submission for Review; Information Collection Request for the Department of Homeland Security Science and Technology Directorate First Responders Community of Practice

AGENCY: Science and Technology Directorate, DHS.

ACTION: 30-day Notice and request for comment.

SUMMARY: The Department of Homeland Security (DHS) invites the general public to comment on a new data collection form for the Science and Technology Directorate (S&T) First Responders Community of Practice (FRCoP): User Registration Page (DHS Form 10059 (9/09)). The FRCoP web-based tool will be collecting profile information from first responders and select authorized non-first responder users to facilitate networking and formation of online communities. All users will be required to authenticate prior to entering the site. In addition, the tool will provide members the capability to create wikis, discussion threads, blogs, and documents allowing them to enter and upload content in accordance with the site's Rules of Behavior. Members will also be able to participate in threaded discussions and comment on other members' content. The S&T FRCoP program is responsible for providing a collaborative environment for the first responder community to share information, best practices, and lessons learned. Section 313 of the Homeland Security Act of 2002 (Pub. L. 107-296) established this requirement. This notice and request for comments is required by the Paperwork Reduction Act of 1995 (Pub. L. 104-13, 44 U.S.C. chapter 35).

DATES: Comments are encouraged and will be accepted until May 3, 2010.

Comments: Interested persons are invited to submit written comments on the proposed information collection to the Office of Information and Regulatory Affairs, Office of Management and Budget. Comments should be addressed to Desk Officer for the Department of Homeland Security, Science and Technology Directorate, and sent via electronic mail to oira_submission@omb.eop.gov or faxed to (202) 395-6974. Please include docket number DHS-2010-0026 in the subject line of the message.

FOR FURTHER INFORMATION CONTACT: Jeffery Harris (202) 254-6015.

SUPPLEMENTARY INFORMATION: The User Registration Form will be available on the FRCoP Web site found at (https://communities.firstresponder.gov). The user will complete the form online and submit it through the Web site.

Overview of This Information Collection

(1) Type of Information Collection: New information collection.

(2) Title of the Form/Collection: First Responders Community of Practice: User Registration Form.

Agency Form Number, if any, and the applicable component of the Department of Homeland Security sponsoring the collection: DHS Science and Technology Directorate, DHS Form 10059 (09/09).

(3) Affected public who will be asked or required to respond, as well as a brief abstract: Individuals; the data will be gathered from individual first responders who wish to participate in the FRCoP.

(4) An estimate of the total number of respondents and the amount of time estimated for an average respondent to respond:

a. Estimate of the total number of respondents: 5000.

b. An estimate of the time for an average respondent to respond: 0.25 burden hours.

Dated: March 24, 2010.
Tara O'Toole,
Under Secretary for Science and Technology.

[FR Doc. 2010-7275 Filed 3-31-10; 8:45 am]

BILLING CODE 9110-9F-P